DEPARTMENT OF THE INTERIOR

Bureau of Reclamation

Environmental Water Account

AGENCY: Bureau of Reclamation, Interior.

ACTION: Notice of availability of the Final Supplemental Environmental Impact Statement/Environmental Impact Report to the Final Environmental Impact Statement/ Environmental Impact Report (Final Supplemental EIS/EIR).

SUMMARY: The Bureau of Reclamation (Reclamation) is the National Environmental Policy Act Federal lead agency, and the U.S. Fish and Wildlife Service (Service) and National Marine Fisheries Service (NMFS) are the Federal Cooperating Agencies. The California Department of Water Resources (DWR) is the California Environmental Quality Act State lead agency, and the California Department of Fish and Game (DFG) is the State Responsible and Trustee Agency. Together, these five agencies have prepared a Final Supplemental EIS/EIR for the Environmental Water Account (EWA).

The EWA Program provides for fish protection and recovery in the San Francisco Bay/Sacramento-San Joaquin Delta (Delta) while at the same time improving water supply reliability for Central Valley Project (CVP) and State Water Project (SWP) water users. The Draft Supplemental EIS/EIR addressed changes to the regulatory and physical environment that have occurred since completion of the Final EIS/EIR in January 2004 (69 FR 3599) and the Records of Decision in March 2004 and September 2004.

DATES: Reclamation will not make a decision on the proposed action until at least 30 days after release of the Final Supplemental EIS/EIR. After the 30-day waiting period, Reclamation will complete a Record of Decision (ROD). The ROD will state the action that will be implemented and will discuss all factors leading to the decision.

ADDRESSES: A compact disk of the Final Supplemental EIS/EIR may be requested from Ms. Sammie Cervantes, by writing to Bureau of Reclamation, 2800 Cottage Way, Sacramento, CA 95825; by calling 916-978-5189 (TDD 916-978-5608); or by e-mailing scervantes@mp.usbr.gov. The Final Supplemental EIS/EIR is also accessible from the following Web sites: http://www.mp.usbr.gov or http://www.dwr.water.ca.gov. See SUPPLEMENTARY INFORMATION section for locations where paper copies of the Final Supplemental EIS/EIR are available for public review.

FOR FURTHER INFORMATION CONTACT: Ms. Sammie Cervantes, Bureau of Reclamation, at 916-978-5189 (TDD 916-978-5608) or scervantes@mp.usbr.gov.

SUPPLEMENTARY INFORMATION: The CVP and SWP facilities that pump water from the Delta can entrain and kill fish, some of which are Federally and State protected species. Reductions in CVP and SWP pumping to protect these fish species can reduce water supply reliability. The EWA Program includes Federal and State agencies making environmentally beneficial changes in the operation of the CVP and SWP for Delta-dependent native fish species, and acquiring and managing water assets to pay back the water foregone by changes to the operation of the CVP and SWP. The Service, Reclamation, DWR, NMFS, and DFG collectively manage the EWA Program. The Service, NMFS, and DFG are responsible for recommending actions that protect and benefit Delta-dependent fish populations. Reclamation and DWR are responsible for acquiring water assets from willing sellers and storing, conveying, and delivering the assets to the CVP and SWP at appropriate times and locations.

The Draft Supplemental EIS/EIR documented the direct, indirect, and cumulative effects to the physical, natural, and socioeconomic environment that may result from the purchase, storage, and conveyance of EWA assets, and the actions taken to benefit Delta-dependent fish populations. The Draft Supplemental EIS/EIR focused on an analysis of impacts to fisheries in the Delta because there have been multiple changes in the regulatory and physical environment since the ROD was signed in September 2004.

Copies of the Final Supplemental EIS/EIR are available for public review at the following locations:

• Bureau of Reclamation, Mid-Pacific Region, Regional Library, 2800 Cottage Way, Sacramento, California 95825.

• California Bay-Delta Authority, 650 Capitol Mall, 5th Floor, Sacramento, California 95812.

• Bureau of Reclamation, Denver Office Library, Building 67, Room 167, Denver Federal Center, 6th and Kipling, Denver, Colorado 80225, 303-445-2072.

• Natural Resources Library, U.S. Department of the Interior, 1849 C Street, NW., Main Interior Building, Washington, DC 20240-0001.

The Notice of Availability of the Draft Supplemental EIS/EIR was published in the Federal Register on Monday, October 22, 2007 (72 FR 59551). The written comment period on the Draft Supplemental EIS/EIR ended Monday, December 10, 2007. The Final Supplemental EIS/EIR contains responses to all comments received and changes made to the text of the Draft Supplemental EIS/EIR as a result of those comments and any additional information received during the review period.

Before including your name, address, phone number, e-mail address, or other personal identifying information in any correspondence, you should be aware that your entire correspondence—including your personal identifying information—may be made publicly available at any time. While you can ask us in your correspondence to withhold your personal identifying information from public review, we cannot guarantee that we will be able to do so.

Dated: March 17, 2008.
Michael R. Finnegan,
Acting Regional Director, Mid-Pacific Region.

[FR Doc. E8-9202 Filed 4-25-08; 8:45 am]

BILLING CODE 4310-MN-P